DEPARTMENT OF ENERGY

Federal Energy Regulatory Commission

[Docket Nos. CP07-8-001 and CP07-8-002]

Guardian Pipeline, L.L.C; Notice of Intent To Prepare an Environmental Impact Statement for the Proposed Guardian Pipeline, L.L.C.'s Amended Guardian Expansion/Extension Project and Request for Comments on Environmental Issues

July 20, 2007.

The staff of the Federal Energy Regulatory Commission (FERC or Commission) is in the process of preparing an environmental impact statement (EIS) that will address the environmental impacts of the Guardian Expansion/Extension Project (G-II) proposed by Guardian Pipeline, L.L.C (Guardian). The Commission will use the EIS in its decision-making process to determine whether or not to authorize the project. A Draft EIS (DEIS) for the G-II Project was issued on April 13, 2007.

This notice announces the opening of a comment period to gather input from the public and interested agencies on amendments that Guardian has made to its proposed G-II Project in filings with the Commission dated April 25, 2007 and July 2, 2007. Each of these amendments were filed in response to various environmental and stakeholder concerns and are discussed in further detail below.

On May 19, 2006, the Commission issued a Notice of Intent (NOI) which announced FERC's initiation of preparing the EIS for the G-II Project. The May 19, 2006 NOI provided information about the proposed Project, the FERC's environmental review process, and requested comments on the scope of issues to be addressed in the EIS. The comment period for the May 19, 2006 NOI closed on June 26, 2006. Comments filed during the scoping period were addressed in the DEIS.

April 25, 2007 Amendment

The April 25, 2007, amendment (Amendment 1) consisted of a pipeline reroute between mileposts (MPs) 95.3 and 118.2 around the Oneida Nation of Wisconsin (Oneida) Reservation in Brown and Outagamie Counties, Wisconsin; modifications to the locations of the West Green Bay, Rubicon, and Sheboygan Meter Stations in Outagamie, Dodge, and Fond du Lac Counties, Wisconsin, respectively; modifications to the location of the Sycamore Compressor Station in De Kalb County, Illinois; and three minor route variations between MPs 71.9 and 72.1 in Calumet County, Wisconsin, MPs 4.1 and 4.6 in Dodge County, Wisconsin, and MPs 41.1 and 41.4 in Fond du Lac County, Wisconsin.

Guardian is proposing the reroute around the Oneida Reservation because it has been unable to negotiate an easement agreement with Oneida Tribe. The 23-mile reroute would consist of a new 23-mile route that would begin at MP 95.3 of the originally proposed route and end at a new Pipeline terminus at MP 118.2 in Outagamie County, Wisconsin. The reroute would add an additional 8.74 miles of 20-inch-diameter pipeline to the total project length of pipe. This proposed reroute would also include moving the location of the proposed West Green Bay Meter Station to a site approximately one mile west of the location evaluated in the April 13, 2007 DEIS, and about a 0.8 mile pipeline to interconnect the new meter station location with the proposed Wisconsin Public Service Corporation delivery point in West Green Bay.

The proposed modification to the Sycamore Compressor Station in DeKalb County, Illinois would result in relocating the compressor station to a site approximately 0.25 mile north of the location evaluated in the April 13, 2007 DEIS.

Modifications to the Rubicon Meter Station would consist of locating the facility to a new site at MP 13.8 in Dodge County, Wisconsin about 0.5 mile from the originally proposed site. Moving the site would increase the distance between the facility and existing farm and residential buildings, as well as avoid impacts on a planned structure at MP 13.3. The change in facility location would result in approximately 0.3 acre of additional permanent impacts to agricultural land. Modifications to the Sheboygan Meter Station would consist of relocating the meter station to a new site approximately 150 feet west of the location evaluated in the April 13, 2007 DEIS. The new site was selected to allow safer operation of the meter station by increasing the overall distance between the meter station and the power line.

Minor route variations were also proposed by Guardian in Amendment 1 to minimize environmental impacts and address additional landowner concerns. The modification between MP 71.9 and 72.1 would avoid a wooded area located at MP 72.0, and increase the amount of pipeline to be collocated within a power line easement. The minor route variations proposed between MPs 4.1 and 4.6 in Dodge County and MPs 41.1 and 41.4 in Fond du Lac County, Wisconsin, would avoid the diagonal crossings of private property and minimize the number of landowners crossed. These variations would result in an additional 0.5 and 0.4 miles of pipeline, respectively.

A map depicting the G-II Pipeline as amended by Guardian on April 25, 2007 is included in appendix 1.¹

¹ The appendices referenced in this notice are not being printed in the Federal Register. Copies are available on the Commission's Web site (excluding maps) at the “e-Library” link or from the Commission's Public Reference Room, or call (202) 502-8371. For instructions on connecting to the e-Library refer to the end of this notice. Copies of the appendices were sent to all those receiving this notice in the mail.

July 2, 2007 Amendment

The July 2, 2007 amendment (Amendment 2) modified part of the proposed reroute presented in Amendment 1 between MPs 88.0 and 98.2, including the relocation of the Fox River crossing, and proposed new locations for the Denmark and Southwest Green Bay Meter Stations in Brown County, Wisconsin. Guardian also proposed the construction of two branch lines (a 16-inch-diameter and a 20-inch-diameter branch lines) in Brown and Outagamie Counties, Wisconsin to interconnect with the Denmark and Southwest Green Bay delivery points currently proposed by the Wisconsin Public Service Company (WPS). The proposed branch lines would add an additional 1.4 miles of 16-inch-diameter pipe and 1.8 miles of 20-inch-diameter pipe. Guardian also proposes to move the Fox Valley Meter Station location from MP 83.7 to MP 81.4.

A map depicting the G-II Pipeline route as amended by Guardian between MP 88.0 and 98.2 on July 2, 2007 is also in appendix 1. Appendix 2 contains a general map of the entire amended pipeline route.

The total length of the proposed pipeline facilities, as amended (including the mainline and branch lines) is now 119.2 miles.

Public Participation

We ² are specifically requesting comments on the revised facility locations. Your input will help identify the issues that need to be evaluated in the EIS. Comments on the project may be submitted in written form. Further details on how to submit written comments are provided in the Public Participation section of this NOI. Please note that comments for this NOI are requested by August 20, 2007.

² “We”, “us”, and “our” refer to the environmental staff of the FERC's Office of Energy Projects.

This notice is being sent to affected landowners; federal, state, and local government agencies; elected officials; environmental and public interest groups; Native American tribes; other interested parties; and local libraries and newspapers. We encourage government representatives to notify their constituents of this planned project and encourage them to comment on their areas of concern.

You can make a difference by providing us with your specific comments or concerns about the proposed project. By becoming a commentor, your concerns will be addressed in the EIS and considered by the Commission. Your comments should focus on the potential environmental effects of the revised facility sites and pipeline routes, and measures to avoid or lessen environmental impact. The more specific your comments, the more useful they will be. To ensure that your comments are timely and properly recorded, please carefully follow these instructions:

• Send an original and two copies of your letter to: Kimberly D. Bose, Secretary, Federal Energy Regulatory Commission, 888 First St., NE., Room 1A, Washington, DC 20426.

• Label one copy of your comments for the attention of Gas Branch 1.

• Reference Docket Nos. CP07-8-001 and CP07-8-002 on the original and both copies.

• Mail your comments so that they will be received in Washington, DC on or before August 20, 2007.

The Commission strongly encourages electronic filing of any comments in response to this Notice of Intent. For information on electronically filing comments, please see the instructions on the Commission's Web site at http://www.ferc.gov under the “e-Filing” link and the link to the User's Guide, as well as information in 18 CFR 385.2001(a)(1)(iii). Before you can submit comments you will need to create a free account, which can be created on-line.

You may want to become an official party to the proceeding known as an “intervenor.” Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site.

Environmental Mailing List

An effort is being made to send this notice to all individuals, organizations, and government entities interested in and/or potentially affected by the proposed project. This includes all landowners who are potential right-of-way grantors, whose property may be used temporarily for project purposes, or who own homes within distances defined in the Commission's regulations of certain above-ground facilities.

If you received this notice, you are on the environmental mailing list for this project. If you do not want to send comments at this time, but still want to remain on our mailing list, please return the Information Request (Appendix 3). If you do not return the Information Request, you will be removed from the Commission's environmental mailing list.

Availability of Additional Information

Additional information about the project is available from the Commission's Office of External Affairs, at 1-866-208-FERC (3372) or on the FERC Internet Web site (http://www.ferc.gov) using the “eLibrary link.” Click on the eLibrary link, select “General Search” and enter the project docket number excluding the last three digits (i.e., CP07-8) in the “Docket Number” field. Be sure you have selected an appropriate date range. For assistance, please contact FERC Online Support at FERCOnlineSupport@ferc.gov or toll free at 1-866-208-3676, or TTY, contact (202) 502-8659. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

Finally, Guardian has established an Internet Web site for this project at http://www.guardianpipeline.com/. The Web site includes a description of the project, a map of the proposed pipeline route, and answers to frequently asked questions. You can also request additional information or provide comments directly to Guardian at 1-866-608-7300 or mjames@landservicecompany.com.

Kimberly D. Bose,
Secretary.

[FR Doc. E7-14738 Filed 7-30-07; 8:45 am]

BILLING CODE 6717-01-P